NATIONAL COUNCIL ON DISABILITY

Sunshine Act Meetings

TIME AND DATE: The Members of the National Council on Disability (NCD) will hold a quarterly hold business meeting and community forum on Friday, May 24, 2019, 9:00 a.m.-4:00 p.m., Atlantic Standard Time (Same as Eastern Daylight Time), in San Juan, Puerto Rico. Registration is not required.

PLACE: This meeting will occur at San Juan Marriott, located at 1309 Ashford Avenue, San Juan, Puerto Rico 00907-1324. Interested parties may join the meeting in person at the meeting location or may join by phone in a listening-only capacity (other than the period allotted for public comment noted below) using the following call-in information: Teleconference number: 1-866-556-2308; Conference ID: 8457105; Conference Title: NCD Meeting; Host Name: Neil Romano. In the event of teleconference disruption or failure, attendees can follow the meeting by accessing the Communication Access Realtime Translation (CART) link provided. CART is text-only translation that occurs real time during the meeting and is not an exact transcript.

MATTERS TO BE CONSIDERED: The Council will receive agency updates on policy projects, finance, governance, and other business. Following agency updates, the Council will receive a presentation on highlights from NCD's upcoming report on involuntary institutionalization of people with disabilities during and after disasters; a panel with the Puerto Rico Disability Community Relief Network; a presentation on “Rebuilding after a Disaster;” a public comment session; and any unfinished business before adjourning.

Agenda: The times provided below are approximations for when each agenda item is anticipated to be discussed (all times Atlantic Standard Time):

Friday, May 24

9:00 a.m.-9:05 a.m. Welcome and Introductions From NCD Chairman Romano

9:05 a.m.-9:25 a.m. Welcome From Puerto Rico

9:25 a.m.-10:25 a.m. Executive Reports

10:25 a.m.-11:45 a.m. Highlights From NCD's Upcoming Report on Institutionalization During and After Disasters

11:45 a.m.-1:00 p.m. Break for Lunch

1:00 p.m.-2:00 p.m. Puerto Rico Disability Community Relief Network

2:00 p.m.-2:15 p.m. Break

2:15 p.m.-3:15 p.m. Rebuilding After a Disaster

3:15 p.m.-3:45 p.m. Public Comment—We Want to Hear From you!

3:45 p.m.-4:00 p.m. Unfinished Business

4:00 p.m. Adjourn

Public Comment: Your participation during the public comment period provides an opportunity for us to hear from you—individuals, businesses, providers, educators, parents and advocates. Your comments are important in bringing attention to the issues in your community. Priority will be given to in-person attendees. Each person will be given 3 minutes to present comment. If you are presenting as a group and prefer to choose a spokesperson, your group representative will be given 6 minutes to provide comment. To ensure your comments are accurately reflected and become part of the public record, NCD requests electronic submission prior to the meeting or immediately after to PublicComment@ncd.gov. Any individual interested in providing public comment is asked to register their intent to provide comment in advance by sending an email to PublicComment@ncd.gov with the subject line “Public Comment” with your name, organization, state, and topic of comment included in the body of your email. Full-length written public comments may also be sent to that email address. All emails to register for public comment at the quarterly meeting must be received by Wednesday, May 22, 2019.

CONTACT PERSON FOR MORE INFORMATION: Anne Sommers, NCD, 1331 F Street NW, Suite 850, Washington, DC 20004; 202-272-2004 (V), 202-272-2074 (TTY), or asommers@ncd.gov.

Accommodations: An assistive listening system, computer assisted real-time transcription, and sign language interpreters will be available. A CART streamtext link has been arranged for this meeting. The web link to access CART (in English) on Friday, May 24, 2019 is: http://www.streamtext.net/player?event=NCD-QUARTERLY. ASL and tri-lingual sign language interpreters will be present. If you require Spanish CART or additional accommodations, please send an email no later than Friday, May 3 to Ana Torres-Davis at atorresdavis@ncd.gov, indicating “Accommodations” in the subject line.

To help reduce exposure to fragrances for those with multiple chemical sensitivities, NCD requests that all those attending the meeting in person refrain from wearing scented personal care products such as perfumes, hairsprays, and deodorants. Flash photography and video documentation may occur during the meeting. Please alert staff if you are affected by photo sensitivity. Attendance at the meeting indicates consent to be photographed and recorded for NCD public affairs activities.

Due to last-minute confirmations or cancellations, NCD may substitute agenda items without advance public notice.

Dated: April 23, 2019.
Sharon M. Lisa Grubb,
Executive Director.

[FR Doc. 2019-08479 Filed 4-23-19; 4:15 pm]

BILLING CODE 8421-02-P